DEPARTMENT OF COMMERCE

Performance Review Board Membership

AGENCY: Economics and Statistics Administration, Commerce.

ACTION: Notice.

SUMMARY: Below is a listing of individuals who are eligible to serve on the Performance Review Board in accordance with the Economics and Statistics Administration's Senior Executive Service and Senior Professional Performance Management Systems:

William G. Bostic, Jr.,

Brian Callahan,

Nancy M. Gordon,

Howard R. Hogan,

Arnold A. Jackson,

Theodore A. Johnson,

Steven J. Jost,

J. Steven Landefeld,

Jennifer Madans,

Marilia Matos,

Brian E. McGrath,

Thomas L. Mesenbourg,

Brent R. Moulton,

Brian C. Moyer,

Joel D. Platt,

Nancy A. Potok,

Obie G. Whichard,

James K. White.

FOR FURTHER INFORMATION CONTACT: Latasha Ellis, 301-763-3727.

Dated: September 9, 2010.
James K. White,
Associate Under Secretary for Management, Chair, Performance Review Board.

[FR Doc. 2010-23433 Filed 9-20-10; 8:45 am]

BILLING CODE 3510-BS-P